DEPARTMENT OF LABOR

Employment and Training Administration

[TA-W-53,209]

Computer Sciences Corp., Financial Services Group (“FSG”), East Hartford, CT; Notice of Affirmative Determination Regarding Application for Reconsideration

By letter of November 24, 2003, a petitioner requested administrative reconsideration of the Department of Labor's Notice of Negative Determination Regarding Eligibility to Apply for Worker Adjustment Assistance, applicable to workers of the subject firm. The denial notice was signed on October 24, 2003, and published in the Federal Register on November 28, 2003 (68 FR 66878).

The Department reviewed the request for reconsideration and has determined that the Department will conduct further investigation to establish whether petitioning workers produced an article within the meaning of section 222 of the Trade Act of 1974.

Conclusion

After careful review of the application, I conclude that the claim is of sufficient weight to justify reconsideration of the Department of Labor's prior decision. The application is, therefore, granted.

Signed at Washington, DC, this 5th day of January, 2004.
Linda G. Poole,
Certifying Officer, Division of Trade Adjustment Assistance.

[FR Doc. 04-10864 Filed 5-12-04; 8:45 am]

BILLING CODE 4510-30-P